DEPARTMENT OF COMMERCE

National Oceanic and Atmospheric Administration

[RTID: 0648-XB441]

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council will hold a webinar workshop to demonstrate electronic vessel trip reporting (eVTR) through an approved software application in preparation for required commercial electronic reporting.

DATES: The workshop will be held via webinar on Tuesday, October 12, 2021, beginning at 4 p.m. and concluding by 6 p.m. For details, see SUPPLEMENTARY INFORMATION.

ADDRESSES: This workshop will be held via webinar and connection and agenda information will be posted at the MAFMC's website: https://www.mafmc.org/council-events.

Council address: Mid-Atlantic Fishery Management Council, 800 N State Street, Suite 201, Dover, DE 19901; telephone: (302) 674-2331; www.mafmc.org.

FOR FURTHER INFORMATION CONTACT: Christopher M. Moore, Ph.D., Executive Director, Mid-Atlantic Fishery Management Council, telephone: (302) 526-5255.

SUPPLEMENTARY INFORMATION: This is a Council-hosted eVTR training workshop open to the public and targeted towards commercial operators. Beginning on November 10, 2021, all commercial vessels with federal permits for species managed by the Mid-Atlantic or New England Council will be required to submit vessel trip reports (VTRs) electronically as eVTRs within 48 hours of the end of a trip (unless required sooner as with some sector allocations). This action does not change any other existing requirements associated with VTRs. These changes were recommended by the MAFMC and NEFMC in order to increase the timeliness and availability of data submitted through VTRs, reduce the reporting burden on commercial vessel operators, and increase the accuracy and quality of data. The training workshop will review step by step instructions for filling out an eVTR using an approved software application.

Special Accommodations

This meeting is physically accessible to people with disabilities. Requests for sign language interpretation or other auxiliary aids should be directed to Shelley Spedden at the Mid-Atlantic Council Office, (302) 526-5251, at least 5 days prior to the meeting date.

Authority: 16 U.S.C. 1801 et seq.

Dated: September 20, 2021.
Tracey L. Thompson,
Acting Deputy Director, Office of Sustainable Fisheries, National Marine Fisheries Service.

[FR Doc. 2021-20597 Filed 9-22-21; 8:45 am]

BILLING CODE 3510-22-P